DEPARTMENT OF COMMERCE

International Trade Administration

U.S. Healthcare Technologies Trade Mission

AGENCY: International Trade Administration, Department of Commerce.

ACTION: Notice to U.S. Healthcare Technologies Trade Mission to Australia and New Zealand, September 12-16, 2005.

SUMMARY: The United States Department of Commerce, International Trade Administration, U.S. Commercial Service, Office of Global Trade Programs, is organizing a Healthcare Technologies Trade Mission to Sydney and Melbourne, Australia and to Auckland, New Zealand, September 12-16, 2005.

The trade mission will target the IT-healthcare sub-sector, e.g., electronic patient records, automated patient scheduling, telemedicine, but will also include other sectors within the healthcare industry.

FOR FURTHER INFORMATION CONTACT: Office of Global Trade Programs; Room 2012; Department of Commerce; Washington, DC 20230; Tel: (202) 482-4457; Fax: (202) 482-0178.

SUPPLEMENTARY INFORMATION:

HEALTHCARE TECHNOLOGIES TRADE MISSION

Australia and New Zealand

September 12-16, 2005

Mission Statement

I. Description of the Mission

The United States Department of Commerce, International Trade Administration, U.S. Commercial Service, Office of Global Trade Programs, is organizing a Healthcare Technologies Trade Mission to Sydney and Melbourne, Australia and to Auckland, New Zealand, September 12-16, 2005.

The trade mission will target the IT-healthcare sub-sector, e.g., electronic patient records, automated patient scheduling, telemedicine, but will also include other sectors within the healthcare industry.

The focus of the mission will be to match participating U.S. companies with qualified agents, distributors, representatives, licensees, and joint venture partners, and where appropriate, arrange for appointments with government officials, in these markets. Consumers in Australia and New Zealand have a strong affinity for U.S. products.

II. Commercial Setting for the Mission

Over 85 percent of medical devices and diagnostics used in Australia are imported, with approximately 60 percent of these products coming from the U.S. Other major market suppliers are the E.U. and Japan. The Australian medical equipment market is valued at approximately US$2 billion, representing about one percent of the global medical market.

Australia is a mature market for medical equipment, and its high per capita income and sophisticated health system translate into demand for a broad range of cutting-edge medical equipment. As in the United States, Australians are educated consumers, and expect state-of-the-art medical treatment, which ensures continuous demand for innovative medical equipment and products.

Government policy and the provision of public health services also stimulate demand for medical equipment. Australia has a government-funded healthcare system, i.e., the government (at all levels) is the primary purchaser of medical equipment. Public hospitals account for approximately 70 percent of sales of medical equipment, while 30 percent of sales are made to the private sector. As the costs of maintaining a public healthcare system increase, public hospital administrators and medical staff are directed to choose the best product available, at the lowest possible cost.

U.S. medical equipment is traditionally well received in Australia due to its perceived high quality. Opportunities are particularly strong for state-of-the-art and innovative medical equipment and products that can result in significant improvement in clinical outcomes. In particular, products that leads to faster patient recovery, and which reduce hospital and rehabilitation costs, are in demand.

Additionally, health IT products are in demand in Australia. For example, the specialized application of IT that enables healthcare organizations to deliver better health outcomes have strong sales potential. Products that improve the delivery of services by reducing medical errors and adverse medical events, and increase patient safety and satisfaction, such as health information management systems, and patient administration and clinical information systems, are all experiencing growth.

Under the Australia-U.S. Free Trade Agreement, U.S. medical equipment continues to receive duty-free treatment. U.S. firms are also allowed to compete for Australia's government purchases on a nondiscriminatory basis.

Commercial Setting—New Zealand

In New Zealand, 100 percent of medical devices and diagnostics are imported, with approximately 60 percent coming from the United States, 30 percent from Europe, and 10 percent from Asia. The New Zealand medical equipment market is estimated at US$500 million.

Major hospital expansions, upgrading and redevelopment are ongoing and are being undertaken in the country's most populated areas, Auckland, Wellington and Christchurch, driving demand for medical equipment and services.

New Zealand's health system is comprised of public, private and voluntary sectors that interact to provide and fund health care. Presently, approximately 80 percent of health care is publicly funded and is comprised of local General Practitioners that refer to specialists when required. The government provides free medical care to children under seven. The wait for non-critical surgery can be quite long, and private insurance is becoming quite popular. The increased use of privately funded facilities provides additional opportunities for U.S. medical exporters. Best prospects in these facilities include cardiac and diagnostic equipment.

New Zealand's total health expenditure as a percentage of Gross Domestic Products was recently measured at approximately 9 percent and had increased from the previous period. The publicly funded portion of health expenditures comprised the bulk of this figure, and also increased over the same period.

New Zealand's aging population will increase demand for facilities such as retirement villages with on-site hospitals that will require not only medical services but also medical equipment. Orthopedic and other musculo-skeletal conditions have become the major cause of disability in New Zealand, and represent areas of demand for U.S. medical exporters.

As in Australia, opportunities for exporters of health IT products are strong. Large U.S. companies in this sector have not yet entered the New Zealand market, so there is unmet demand for new health IT technologies.

III. Goals for the Mission

The Trade Mission's goal is to provide market entry or increased sales into the Australia and New Zealand markets for U.S. healthcare firms and/or IT firms with healthcare-related products or services, as well as first-hand market information and access to key government officials and potential business partners.

IV. Scenario for the Mission

The trade mission will spend two days in Sydney, two days in Melbourne, and one day in Auckland.

In each country, the U.S. Commercial Service will:

• Provide a market briefing highlighting opportunities in the healthcare technologies sector;

• Schedule one-on-one appointments with potential business partners for each participant.

In Australia, the U.S. Commercial Service will:

Arrange a hospitality event to introduce participants to key business and industry officials.

Timetable

Sunday, September 11, 2005

Arrive in Sydney

Monday, September 12, 2005

Breakfast Market Briefing in Sydney

Trade Mission Meetings in Sydney

Evening Reception

Tuesday, September 13, 2005

Trade Mission Meetings in Sydney

Travel to Melbourne

Wednesday, September 14, 2005

Breakfast Market Briefing in Melbourne

Trade Mission Meetings in Melbourne

Evening Reception

Thursday, September 15, 2005

Trade Mission Meetings in Melbourne

Travel to Auckland

Friday, September 16, 2005

Breakfast Market Briefing in Auckland

Trade Mission Meetings in Auckland

Conclusion of Trade Mission

V. Criteria for Participant Selection

• Relevance of the company's business line to the mission scope and goals

• Potential for business in the selected markets

• Timeliness of the company's completed application, participation agreement, and payment of the mission participation fee

• Provision of adequate information on the company's products and/or services and communication of the company's primary objectives to facilitate appropriate matching with potential business partners

• Certification that the company's products and/or services are manufactured or produced in the United States or if manufactured/produced outside of the United States, the product/service must be marketed under the name of a U.S. firm and have U.S. content representing at least 51 percent of the value of the finished good or service.

Any partisan political activities of an applicant, including political contributions, will be entirely irrelevant to the selection process.

The mission will be promoted through the following venues: Export Assistance Centers and the Healthcare Team; USCS Trade Events List http://www.export.gov; industry newsletters; the Federal Register; relevant trade publications; relevant trade associations; past Commerce trade mission participants; various in-house and purchased industry lists, and on the Commerce Department trade missions calendar: http://www.ita.doc.gov/doctm/tmcal.html.

Recruitment will begin immediately and will close on July 29, 2005. The trade mission participation fee will be US$3,500 per company. The participation fee does not include the cost of travel and lodging. Participation is open to the first 10 qualified U.S. companies. Applications received after that date will be considered only if space and scheduling constraints permit.

Contact Information

Bill Kutson, Project Manager, U.S. Commercial Service, Global Trade Programs, U.S. Department of Commerce, Room 2012, Washington, DC 20230, Tel: (202) 482-2839, Fax: (202) 482-0178, E-mail: William.Kutson@mail.doc.gov.

Dated: March 14, 2005.
Nancy Hesser,
Industry Sector Manager, Office of Trade Event Programs.

[FR Doc. E5-1235 Filed 3-21-05; 8:45 am]

BILLING CODE 3510-DR-P